DEPARTMENT OF COMMERCE

United States Patent and Trademark Office

Performance Review Board (PRB)

AGENCY: United States Patent and Trademark Office, Commerce.

ACTION: Notice; update membership list of the United States Patent and Trademark Office Performance Review Board.

SUMMARY: In conformance with the Civil Service Reform Act of 1978, 5 U.S.C. 4314(c)(4), the United States Patent and Trademark Office announces the appointment of persons to serve as members of its Performance Review Board.

ADDRESSES: Director, Office of Human Resources, United States Patent and Trademark Office, One Crystal Park, Suite 707, Washington, DC 20231.

FOR FURTHER INFORMATION CONTACT: Sydney Rose at (703) 305-8062.

SUPPLEMENTARY INFORMATION: The membership of the United States Patent and Trademark Office Performance Review Board is as follows:

Clarence Crawford, Chair, Chief Financial Officer and Chief Administrative Officer, United States Patent and Trademark Office, Washington, DC 20231, Term expires September 30, 2003.

Nicholas Godici, Commissioner for Patents, United States Patent and Trademark Office, Washington, DC 20231, Term expires September 30, 2003.

Anne Chasser, Commissioner for Trademarks, United States Patent and Trademark Office, Washington, DC 20231, Term expires September 30, 2003.

Douglas Bourgeois, Chief Information Officer, United States Patent and Trademark Office, Washington, DC 20231, Term expires September 30, 2004.

Esther Kepplinger, Deputy Commissioner for Patent Operations, United States Patent and Trademark Office, Washington, DC 20231, Term expires September 30, 2003.

James Toupin, General Counsel, United States Patent and Trademark Office, Washington, DC 20231, Term expires September 30, 2004.

Robert Anderson, Deputy Commissioner for Trademarks, United States Patent and Trademark Office, Washington, DC 20231, Term expires September 30, 2003.

Robert Stoll, Administrator for External Affairs, United States Patent and Trademark Office, Washington, DC 20231, Term expires September 30, 2003.

Dieter Hoinkes, Deputy Administrator for External Affairs, United States Patent and Trademark Office, Washington, DC 20231, Term expires September 30, 2003.

Bruce Campbell, Executive Associate Director, Operations Support Directorate, Federal Emergency Management Agency, Washington, DC 20742, Term expires September 30, 2002.

K. David Holmes, Jr., Deputy Assistant Secretary for Security, Department of Commerce, Washington, DC 20233, Term expires September 30, 2004.

Dated: November 6, 2001.
Nicholas P. Godici,
Acting Under Secretary of Commerce for Intellectual Property and Acting Director of the United States Patent and Trademark Office.

[FR Doc. 01-28251 Filed 11-8-01; 8:45 am]

BILLING CODE 3510-16-P